DEPARTMENT OF AGRICULTURE

Forest Service

Fish Creek Watershed Project, Umpqua National Forest, Douglas County, OR

AGENCY: Forest Service, USDA.

ACTION: Cancellation notice.

SUMMARY: On June 1, 2001, a Notice of Intent (NOI) to prepare an Environmental Impact Statement (EIS) for the Fisk Creek Watershed Project on the Diamond Lake Ranger District of the Umpqua National Forest, was published in the Federal Register (66 FR 29763). The Forest Service has decided to cancel the preparation for this EIS. The NOI is hereby rescinded.

FOR FURTHER INFORMATION CONTACT: Questions may be directed to Debbie Anderson, Forest Environmental Coordinator, Umpqua National Forest, Supervisors Office, 2900 NW., Stewart Parkway, Roseburg, Oregon 97470, or (541) 957-3466.

Dated: September 1, 2004.
James A. Caplan,
Forest Supervisor.

[FR Doc. 04-20307 Filed 9-7-04; 8:45 am]

BILLING CODE 3410-11-M